DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below regarding motorcycle helmet labels has been forwarded to the Office of Management and Budget (OMB) for review and comment. The ICR describes the nature of the information collections and their expected burden. The Federal Register Notice with a 60-day comment period was published on February 1, 2008 [73 FR 6554]. The docket number is NHTSA-2008-0023.

The agency received eight comments on this collection item. Two comments questioned the effectiveness of motorcycle helmet laws. This notice is not intended to address state or local helmet laws and therefore the comments are not relevant to this notice. Three comments were related to testing specifications of FMVSS No. 218. This notice does not change FMVSS No. 218 testing specifications. Consequently these comments are outside the scope of this notice. One comment recommended doing away with motorcycle helmet labels and two other comments suggested that collection of this information by NHTSA was unnecessary. The agency does not agree that motorcycle helmet labels or the information collection should be eliminated. These labels provide consumers with the assurance that the helmet meets FMVSS No. 218 minimum performance requirements. Assurance that a helmet meets FMVSS No. 218 is important to consumers because the standard specifies minimum performance requirements that are designed to reduce deaths and injuries to motorcyclists. The agency believes that it is important for consumers to be able to distinguish between helmets that meet FMVSS No. 218 requirements and those that do not.

DATES: Comments must be submitted on or before May 27, 2008.

FOR FURTHER INFORMATION CONTACT: Sean Doyle, National Highway Traffic Safety Administration, Office of Crash Worthiness W43-414, 202-493-0188, 1200 New Jersey Avenue, SE., Washington, DC 20590.

SUPPLEMENTARY INFORMATION:

National Highway Traffic Safety Administration

Title: 49 CFR 571.1218, Motorcycle Helmets (Labeling).

OMB Number: 2127-0518.

Type of Request: Extension of a currently approved collection.

Abstract: The National Traffic Vehicle Safety statute at 49 U.S.C. subchapter II standards and compliance, sections 30111 and 30117, authorizes the issuance of Federal motor vehicle safety standards, rules and regulations as he/she deems necessary. The Secretary is also authorized to require manufacturers to provide information in the form of printed matter placed in the vehicle or attached to the motor vehicle or motor vehicle equipment to first purchasers of motor vehicles or motor vehicle equipment when the vehicle equipment is purchased.

Using this authority, the agency issued the initial FMVSS No. 218, Motorcycle Helmets, in 1974. Motorcycle helmets are devices used to protect motorcyclists from head injury in motor vehicle accidents. FMVSS No. 218 S5.6 requires that each helmet shall be labeled permanently and legibly in a manner such that the label(s) can be read easily without removing padding or any other permanent part.

Affected Public: Motorcycle helmet manufacturers.

Estimated Burden Hours: 5,000 hours.

ADDRESSES: Send comments, within 30 days, to the Office of Information and Regulatory Affairs, Office of Management and Budget, 725-17th Street, NW., Washington, DC 20503. Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. Comments to OMB are most effective if received by OMB within 30 days of publication.

Issued in Washington, DC, on April 18, 2008.
Stephen R. Kratzke,
Associate Administrator for Rulemaking.

[FR Doc. E8-8867 Filed 4-23-08; 8:45 am]

BILLING CODE 4910-59-P